DEPARTMENT OF TRANSPORTATION

Federal Aviation Administration

[Docket No. FAA-2023-1076]

Agency Information Collection Activities: Requests for Comments; Clearance of a Renewed Approval of Information Collection: Aging Aircraft Program (Widespread Fatigue Damage)

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 30-day comment period soliciting comments on the following collection of information was published on February 21, 2024. The collection involves submittal of limits of validity of engineering data that supports the structural maintenance program (hereafter referred to as LOV) for certain airplane models. The information to be collected will be used to demonstrate compliance with FAA regulations requiring establishment and incorporation of LOV into the airplane's structural maintenance program.

DATES: Written comments should be submitted by March 28, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Kamruz.Zaman by email at: Kamruz.Zaman@faa.gov; phone: 516-228-7355.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-0743.

Title: Aging Aircraft Program (Widespread Fatigue Damage).

Form Numbers: There are no FAA forms associated with this collection.

Type of Review: Renewal of an information collection.

Background: The Federal Register Notice with a 60-day comment period soliciting comments on the following collection of information was published May 30, 2023 (88 FR 34556). The “Aging Aircraft Program (Widespread Fatigue Damage)” final rule amended FAA regulations pertaining to certification and operation of transport category airplanes to preclude widespread fatigue damage in those airplanes. This collection requires that design approval holders submit LOV to the responsible Aircraft Certification Service office for approval to demonstrate compliance with § 26.21 or § 26.23, as applicable. This collection also requires that operators submit the LOV to their Principal Maintenance Inspectors to demonstrate compliance with § 121.1115 or § 129.115, as applicable.

Respondents: Approximately 27 design approval holders and operators.

Frequency: Information is collected on occasion.

Estimated Average Burden per Response: 2.72 hours.

Estimated Total Annual Burden: 408 hours.

Issued in Washington, DC, on February 22, 2024.
Sandra L. Ray,
Aviation Safety Inspector, AFS-260.

[FR Doc. 2024-03964 Filed 2-26-24; 8:45 am]

BILLING CODE 4910-13-P